SECURITIES AND EXCHANGE COMMISSION

[Release No. 34-64809; File No. SR-NYSE-2011-20]

Self-Regulatory Organizations; New York Stock Exchange LLC; Notice of Designation of a Longer Period for Commission Action on Proposed Rule Change To Add New Section 907.00 to the Listed Company Manual That Sets Forth Certain Complimentary Products and Services That Are Offered to Currently and Newly Listed Issuers

July 5, 2011.

On May 5, 2011, the New York Stock Exchange LLC (“NYSE” or “Exchange”) filed with the Securities and Exchange Commission (“Commission”), pursuant to Section 19(b)(1) of the Securities Exchange Act of 1934 (“Act”),¹ and Rule 19b-4 thereunder,² a proposed rule change to amend the NYSE's Listed Company Manual to set forth certain complimentary products and services, and their commercial value, that are offered by the Exchange to currently and newly listed issuers. The proposed rule change was published for comment in the Federal Register on May 23, 2011.³ The Commission received sixteen comment letters on the proposal.⁴

¹ 15 U.S.C. 78s(b)(1).

² 17 CFR 240.19b-4.

³ See Securities Exchange Act Release No. 64506 (May 17, 2011), 76 FR 29806 (May 23, 2011).

⁴ See Letters to the Commission, from Ronald Russo, GLX, Inc., dated May 18, 2011; Bryan Degnan, Taylor Rafferty Associates, dated May 19, 2011; Jennifer Kaminsky, dated May 19, 2011; Anonymous, dated May 19, 2011; Todd Allen, dated May 19, 2011; Brian Rivel, President, Rivel Research Group, dated May 20, 2011; Jerry Falkner, May 22, 2011; Enzo Villani, President, MZ North America, dated June 6, 2011; John Fairir, dated June 7, 2011; Michael Pepe, CEO, PrecisionIR Group, dated June 7, 2011; Michael O'Connell, Director IR Solutions, SNL Financial, dated June 10, 2011; Dominic Jones, President, IR Web Reporting International, Inc., dated June 15, 2011; Darrell Heaps, CEO, Q4 Web System, dated June 16, 2011; Dominic Jones, President, IR Web Reporting International, Inc., dated June 29, 2011; and e-mails to Robert Cook, Director, Division of Trading and Markets and David Shillman, Associate Director, Division of Trading and Markets, from Patrick Healy, CEO, Issuer Advisory Group, LLC, dated June 26, 2011 and June 28, 2011.

The Commission also received a comment letter from NYSE in response to the commenters.⁵

⁵ See Letter to Elizabeth M. Murphy, Secretary, Commission, from Janet L. McGinness, Senior Vice President—Legal and Corporate Secretary, NYSE, dated June 27, 2011.

Section 19(b)(2) of the Act ⁶ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is July 7, 2011.

⁶ 15 U.S.C. 78s(b)(2).

The Commission is extending the 45-day time period for Commission action on the proposed rule change. The Commission finds that it is appropriate to designate a longer period within which to take action on the proposed rule change so that it has sufficient time to consider the Exchange's proposal, as described above, and to consider the comment letters that have been submitted in connection with the proposed rule change.

Accordingly, pursuant to Section 19(b)(2) of the Act,⁷ the Commission designates August 21, 2011 as the date by which the Commission should either approve or disapprove, or institute proceedings to determine whether to disapprove, the proposed rule change (File Number SR-NYSE-2011-20).

⁷ 15 U.S.C. 78s(b)(2).

For the Commission, by the Division of Trading and Markets, pursuant to delegated authority.⁸
⁸ 17 CFR 200.30-3(a)(31).
Cathy H. Ahn,
Deputy Secretary.

[FR Doc. 2011-17305 Filed 7-8-11; 8:45 am]

BILLING CODE 8011-01-P